DEPARTMENT OF COMMERCE

National Oceanic and Atmospheric Administration

[RTID 0648-XB784]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a public meeting of its Mackerel, Squid, and Butterfish Advisory Panel. See SUPPLEMENTARY INFORMATION for agenda details.

DATES: The meeting will be held on Wednesday, February 23, 2022, from 9 a.m. until 12 p.m.

ADDRESSES: The meeting will be held via webinar. Connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council's Mackerel, Squid, and Butterfish Advisory Panel will meet via webinar. The purpose of this meeting is for the Advisory Panel to develop fishery performance reports (FPRs) for Illex squid and Atlantic mackerel. The intent of the FPR is to facilitate structured input from the Advisory Panel on recent fishery performance. The FPR will be considered as 2022 Illex specifications are reviewed and as mackerel rebuilding revisions are considered.

Special Accommodations

The meeting is physically accessible to people with disabilities. Requests for sign language interpretation or other auxiliary aid should be directed to Shelley Spedden, (302) 526-5251, at least 5 days prior to the meeting date.

Authority: 16 U.S.C. 1801 et seq.

Dated: February 3, 2022.
Tracey L. Thompson,
Acting Deputy Director, Office of Sustainable Fisheries, National Marine Fisheries Service.

[FR Doc. 2022-02609 Filed 2-7-22; 8:45 am]

BILLING CODE 3510-22-P